DEPARTMENT OF LABOR

Employment and Training Administration

[TA-W-38,589]

Collins & Aikman Automotive Interior Systems, Canton, OH; Notice of Negative Determination Regarding Application for Reconsideration

By application dated March 22, 2001, the United Steelworkers of America, Local 550-L (U.S.W.A.), requested administrative reconsideration of the Department's negative determination regarding eligibility to apply for Trade Adjustment Assistance (TAA), applicable to workers and former workers of the subject firm. The denial notice was signed on February 16, 2001, and published in the Federal Register on April 5, 2001 (66 FR 38589).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The Department initially denied the TAA to workers of the Collins & Aikman, Automotive Interior Systems, Canton, Ohio because the criterion (3) of the worker group eligibility requirement of section 222 of the Trade Act of 1974, as amended, was not met. The Department's investigation disclosed that layoffs at the plant were attributable to the company's decision to transfer production of automotive floor mats from the Canton plant to other domestic facilities. Also, the company did not import like or directly competitive products. The workers at the subject firm were engaged in employment related to the production of automotive floor mats.

The petitioner, U.S.W.A., asserts that imports of automobiles were a major factor in the closing of the facility. Imports of automobiles, however, is not a basis for certification of workers producing floor mats under the Trade Act of 1974.

Additionally, the U.S.W.A. believes that all of the facts may not have been considered in the Department of Labor's TAA petition denial. In support, the petitioner stated Akro, the former name of the subject firm, was an original equipment manufacturer of automobile floor mats for new and domestic cars. The petitioner also attached a copy of a handwritten note dated March 14, 2001, requesting information on any product lines that were shipped out of the country. Subsequently, petitioner submitted a letter dated March 28, 2001, stating that several car mats for Ford and Volvo automobiles were transferred to a company in Europe by Akro, thus, creating a loss of jobs for Collins & Aikman employees through imports. The petition investigation, however, revealed the Collins & Aikman plant in Canton, does not import products like or directly competitive with the automobile floor mats which were produced in that plant. Nor did the subject firm shift production of those articles from Canton, Ohio, to facilities outside of the United States.

Finally, U.S.W.A. adds that former employees of the Shenango Furnace Company, Denver, Ohio, were found eligible to apply for TAA when the company moved to another domestic site. The petitioner is advised Shenango employees are not relevant to the workers at the Collins & Aikman plant.

Conclusion

After review of the application and investigative findings, I conclude that there has been no error or misinterpretation of the law or of the facts which would justify reconsideration of the Department of Labor's prior decision. Accordingly, the application is denied.

Signed at Washington, DC, this 13th day of September 2001.
Edward A. Tomchick,
Director, Division of Trade Adjustment Assistance.

[FR Doc. 01-24812 Filed 10-3-01; 8:45 am]

BILLING CODE 4510-33-M